DEPARTMENT OF HOMELAND SECURITY

United States Immigration and Customs Enforcement

Agency Information Collection Activities: Extension, Without Change, of a Currently Approved Collection; Comment Request

ACTION: 30-Day Notice of Information Collection Under Review; Form 70-003, 70-004, IDENT/IAFIS Interoperability State Department of Corrections Officials and Facilities Assessment; OMB Control No. 1653-0040.

The Department of Homeland Security, U.S. Immigration and Customs Enforcement (ICE), is submitting the following information collection request for review and clearance in accordance with the Paperwork Reduction Act of 1995. The information collection was previously published in the Federal Register on March 31, 2011, Vol. 76 No. 62 pp. 17936, allowing for a 60 day comment period. No comments were received on this information collection.

The purpose of this notice is to allow an additional 30 days for public comments. Comments are encouraged and will be accepted for thirty days until March 26, 2012.

Written comments and suggestions from the public and affected agencies regarding items contained in this notice and especially with regard to the estimated public burden and associated response time should be directed to the Office of Information and Regulatory Affairs, Office of Management and Budget. Comments should be addressed to OMB Desk Officer, for United States Immigration and Customs Enforcement, Department of Homeland Security, and sent via electronic mail to oira_submission@omb.eop.gov or faxed to (202) 395-6974.

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension, without change, of a previously approved collection. The type of information collection as previously reported in the 60-day Federal Register Notice at 76 FR 62 pp. 17936, March 31, 2011 has changed due to the elimination of the proposed new forms 75-001 and 75-002.

(2) Title of the Form/Collection: IDENT/IAFIS Interoperability State Department of Corrections Officials and Facilities Assessment.

(3) Agency form number, if any, and the applicable component of the Department of Homeland Security sponsoring the collection: Form 70-003, 70-004; U.S. Immigration and Customs Enforcement. Forms 75-001 and 75-002, previously indicated as being a part of this collection in the 60-day Federal Register Notice at 76 FR 62 pp. 17936, March 31, 2011, are no longer being added to this collection and the information proposed to be collected on these forms will not be collected.

(4) Affected public who will be asked or required to respond, as well as a brief abstract: Primary: State. Local or Tribal Government; 8 U.S.C. 1231(a) gives the Department of Homeland Security (DHS), U.S. Immigration and Customs Enforcement (ICE) authority to remove criminal aliens who have been ordered as such. DHS/ICE is improving community safety by transforming the way the Federal government cooperates with state and local law enforcement agencies to identify, detain, and remove all criminal aliens held in custody. Secure Communities revolutionizes immigration enforcement by using technology to share information between law enforcement agencies and applying risk-based methodologies to focus resources on assisting all local communities remove high-risk criminal aliens. In order for the Secure Communities Initiatives to meet its goals, ICE must collect detailed business requirements and input from its state and local law enforcement partners. This assessment determines the fingerprint procedures and technological capabilities of state and local jails governance, as well as basic jail booking statistics. This information is used in order to prioritize local sites and deliver the implementation strategy of the Secure Communities Initiative.

(5) An estimate of the total number of respondents and the amount of time estimated for an average respondent to respond: 7,000 responses at 20 minutes (.3333 hours) per response. The total number of responses of 7,356 previously reported in the 60-day Federal Register Notice at 76 FR 62 pp. 17936, March 31, 2011, has been corrected to represent the elimination of proposed forms 75-001 and 75-002.

(6) An estimate of the total public burden (in hours) associated with the collection: 2,334 annual burden hours. The total number of burden hours of 2,453 previously reported in the 60-day Federal Register Notice at 76 FR 62 pp. 17936, March 31, 2011, has been corrected to represent the elimination of proposed forms 75-001 and 75-002.

Requests for a copy of the proposed information collection instrument, with instructions; or inquiries for additional information should be directed to: John Ramsay, Forms Program Manager, U.S. Immigration and Customs Enforcement, 500 12th Street, SW., Mail Stop 5705, Washington, DC 20536.

John Ramsay,
Forms Program Manager, U.S. Immigration and Customs Enforcement, Department of Homeland Security.

[FR Doc. 2012-4276 Filed 2-23-12; 8:45 am]

BILLING CODE 9111-28-P